FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 10, 2010.

A. Federal Reserve Bank of Kansas City (Dennis Denney, Assistant Vice President) 1 Memorial Drive, Kansas City, Missouri 64198-0001:

1. J. Grant Burcham, as trustee of the James Grant Burcham Trust, Kansas City, Missouri; to retain control of MBT Bancshares, Inc., and thereby indirectly retain control of Missouri Bank and Trust Company, both of Kansas City, Missouri.

B. Federal Reserve Bank of Dallas (E. Ann Worthy, Vice President) 2200 North Pearl Street, Dallas, Texas 75201-2272:

1. Byron Cook; Ginne Sue Cook; Katie Cook; Lance Cook; Karen Cook, and Nina Sue Cook, all in Corsicana, Texas, collectively the Cook Family; to retain voting shares of Community Bank Holdings of Texas, Inc., and thereby indirectly retain voting shares of Community National Bank and Trust of Texas, both of Corsicana, Texas.

Board of Governors of the Federal Reserve System, October 21, 2010.
Robert deV. Frierson,
Deputy Secretary of the Board.

[FR Doc. 2010-27012 Filed 10-25-10; 8:45 am]

BILLING CODE 6210-01-P